NATIONAL SCIENCE FOUNDATION

Proposal Review Panel for Materials Research; Notice of Meeting

In accordance with the Federal Advisory Committee Act (Pub. L. 92-463 as amended), the National Science Foundation announces the following meeting:

Name: Proposal Review Panel for Materials Research (DMR) #1203

Dates and Times: July 23, 2008; 6 p.m.-9 p.m.; July 24, 2008; 8:15 am-9 p.m.; July 25, 2008; 8:00 am-3 p.m.

Place: University of Pennsylvania, Philadelphia, PA.

Type of Meeting: Part-Open.

Contact Person: Dr. Rama Bansil, Program Director, Materials Research Science and Engineering Centers Program, Division of Materials Research, Room 1065, National Science Foundation, 4201 Wilson Boulevard, Arlington, VA 22230, Telephone (703) 292-8562.

Purpose of Meeting: To provide advice and recommendations concerning further support of the Nanoscale Science and Engineering Center (NSEC).

Agenda

Wednesday, July 23, 2008

6 p.m.-9 p.m. Closed—Briefing of Site Visit Panel (La Terrace).

Thursday, July 24, 2008

8:15 am-4 p.m. Open—Welcome, Institutional Representatives Presentations.

4 p.m.-5:30 p.m. Closed—Executive Session for Site Visit Team.

5:30 p.m.-7 p.m. Open—Poster Session.

7 p.m.-9 p.m. Closed—Dinner Meeting of Site Visit Panel.

Friday, July 25, 2008

8 a.m.-3 p.m. Closed—Executive Session and Director's Response to Feedback, Debriefing with NSEC Director and Center Leaders.

Reason for Closing: The work being reviewed may include information of a proprietary or confidential nature, including technical information; financial data, such as salaries and personal information concerning individuals associated with the proposals. These matters are exempt under 5 U.S.C. 552 b(c), (4) and (6) of the Government in the Sunshine Act.

Dated: July 1, 2008.
Susanne Bolton,
Committee Management Officer.

[FR Doc. E8-15260 Filed 7-3-08; 8:45 am]

BILLING CODE 7555-01-P